ENVIRONMENTAL PROTECTION AGENCY

[ER-FRL-8799-2]

Environmental Impact Statements; Notice of Availability

Responsible Agency: Office of Federal Activities, General Information (202) 564-1399 or http://www.epa.gov/compliance/nepa/.

Weekly Receipt of Environmental Impact Statements

Filed 11/02/2009 Through 11/06/2009

Pursuant to 40 CFR 1506.9.

EIS No. 20090379, Draft Supplement, COE, FL, Brevard County, Florida Hurricane and Storm Damage Reduction Project, To Reduce the Damages Caused by Erosion and Coastal Storms to Shorefront Structures Along the Mid-Reach Segment, Implementation, Brevard County, FL, Comment Period Ends: 12/28/2009, Contact: Candida Bronson 904-232-1697.

EIS No. 20090380, Final EIS, NPS, GA, Chattahoochee River National Recreation Area General Management Plan, Preferred Alternative is F, Future Directions for the Management and Use of Chattachoochee River National Recreation Area, Implementation, Chattahoochee River, Atlanta, GA, Wait Period Ends: 12/14/2009, Contact: David Libman 404-507-5701.

EIS No. 20090381, Draft EIS, IBR, CA, New Melones Lakes Area Resource Management Plan, Implementation, Tuolumne and Calaveras Counties, CA, Comment Period Ends: 01/04/2010, Contact: Melissa Vignau 916-989-7182.

EIS No. 20090382, Draft EIS, IBR, CA, Central Valley Project Water Supply Contracts Under Public Law 101-514 (Section 206), Proposed Water Service Contracts with the El Dorado County Water Agency, El Dorado County, CA, Comment Period Ends: 12/28/2009, Contact: Elizabeth Dyer 916-989-7256.

EIS No. 20090383, Final EIS, BLM, NV, Bald Mountain Mine North Operations Area Project, Proposes to Expand Current Mining Operations at several Existing Pits, Rock Disposal Areas, Heap Leach Pads, Processing Facilities, and Interpit Area, Combining the Bald Mountain Mine Plan of Operations Boundary and the Mooney Basin Operation Area Boundary, White Pine County, NV, Wait Period Ends: 12/14/2009, Contact: Lynn Bjorklund 775-289-1893.

EIS No. 20090384, Draft EIS, NOA, CA, Fruit Growers Supply Company's Multi-Species Habitat Conservation Plan, Implementation, Authorization for Incidental Take Permit, Siskiyou County, CA, Comment Period Ends: 02/11/2010, Contact: Lisa Roberts 707-825-5178.

EIS No. 20090385, Draft Supplement, TVA, AL, Bellefonte Site Single Nuclear Unit Project, Proposes to Complete or Construct and Operate a Single 1,100-1, 200 MW Nuclear Generation Unit, Jackson County, AL, Comment Period Ends: 12/28/2009, Contact: Andrea L. Sterdis 423-751-7119.

EIS No. 20090386, Draft EIS, BLM, CA, Ivanpah Solar Electric Generating System (07-AFC-5) Project, Proposal to Construct a 400-m Megawatt Concentrated Solar Power Tower, Thermal-Electric Power Plant, San Bernardino County, CA, Comment Period Ends: 02/11/2010, Contact: Tom Hurshman 970-240-5345.

EIS No. 20090387, Final EIS, BLM, CA, Carrizo Plain National Monument, Draft Resource Management Plan, Implementation, San Luis Obispo County and Portion of western Kern County, CA, Wait Period Ends: 12/14/2009, Contact: Susan Porter 661-391-6067.

EIS No. 20090388, Draft EIS, AFS, OR, Fremont-Winema National Forests Invasive Plant Treatment, Propose to Treat up to 8,700 Acres of Invasive Plant Infestation Per Year, Klamath and Lake Counties, OR, Comment Period Ends: 12/28/2009, Contact: Sarah Malaby 541-947-2151.

EIS No. 20090389, Final EIS, AFS, CA, Beaverslide Timber Sale and Fuel Treatment Project, Proposing to Harvest Commercial Timber and Treat Hazardous Fuels, Six Rivers National Forest, Mad River Ranger District, Trinity County, CA, Wait Period Ends: 12/14/2009, Contact: Keith Menasco 707-574-6233.

EIS No. 20090390, Draft EIS, NOA, 00, Amendment 31 to the Fishery Management Plan for Reef Fish Resources, Addresses Bycatch of Sea Turtles in the Bottom Longline Component of the Reef Fish Fishery, Gulf of Mexico, Comment Period Ends: 12/28/2009, Contact: Roy E. Crabtree 727-824-5701.

Dated: November 9, 2009.
Robert W. Hargrove,
Director, NEPA Compliance Division, Office of Federal Activities.

[FR Doc. E9-27312 Filed 11-12-09; 8:45 am]

BILLING CODE 6560-50-P